INTERNATIONAL TRADE COMMISSION

[Investigation No. 337-TA-747]

Certain Products Containing Interactive Program Guides and Parental Controls Technology; Notice of Commission Decision Not To Review an Initial Determination Terminating the Investigation on the Basis of the Parties' Settlement

AGENCY: U.S. International Trade Commission.

ACTION: Notice.

SUMMARY: Notice is hereby given that the U.S. International Trade Commission has determined not to review the presiding administrative law judge's (“ALJ”) initial determination (“ID”) (Order No. 18) granting a joint motion to terminate the investigation based on settlement.

FOR FURTHER INFORMATION CONTACT: Sidney A. Rosenzweig, Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 24, 2010, based on a complaint filed by Rovi Corp. (f/k/a Macrovision Solutions Corp.) of Santa Clara, California; its wholly-owned subsidiary Rovi Guides, Inc. (f/k/a Gemstar-TV Guide International, Inc.) (“Rovi Guides”) of Santa Clara, California; and Rovi Guides' wholly-owned subsidiaries United Video Properties of Santa Clara, California, and Index Systems, Inc., of the British Virgin Islands (collectively, “Rovi”). 75 FR 71737 (November 24, 2010). The complaint named as respondents Toshiba Corp. of Japan and its subsidiaries Toshiba America, Inc. of New York, New York; Toshiba America Consumer Products, LLC of Wayne, New Jersey; and Toshiba America Information Systems, Inc. of Irvine, California (collectively, “Toshiba”). The complaint alleged a violation of section 337 in the importation, sale for importation, and sale within the United States after importation of certain products containing interactive program guide and parental controls technology by reason of the infringement of certain claims of U.S. Patent Nos. 6,305,016; 6,020,929; and 6,701,523.

On July 6, 2011, Rovi and Toshiba moved to terminate the investigation based on a license agreement that settled the parties' dispute. On July 11, 2011, the ALJ issued the subject ID, granting the motion. Order No. 18.

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: July 28, 2011.
James R. Holbein,
Secretary to the Commission.

[FR Doc. 2011-19571 Filed 8-2-11; 8:45 am]

BILLING CODE 7020-02-P